DEPARTMENT OF THE INTERIOR

Bureau of Land Management

[MT-060-1020-PG]

Notice of Public Meeting, Central Montana Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Central Montana Resource Advisory Council (RAC), will meet as indicated below.

DATES: The meeting will be held January 15 & 16, 2003 at the Chinook Motor Inn in Chinook, Montana. The January 15th meeting will begin at 1 p.m. with a 30-minute public comment period and will adjourn at 6:30 p.m. The January 16th meeting will begin at 8 a.m. with a 30-minute public comment period and will adjourn at 1:30 p.m.

SUPPLEMENTARY INFORMATION: This 15-member council advises the Secretary of the Interior, through the Bureau of Land Management, on a variety of planning and management issues associated with public land management in north central Montana. During these meetings, the RAC will discuss:

The sage grouse plan recommendations;

The outfitter moratorium on the Upper Missouri National Wild and Scenic River;

The national RAC meeting held recently in Phoenix;

The council will set meeting dates for other meetings in 2003;

The RAC will meet the new Montana State Director;

Land exchanges;

The RAC will hear a scoping report concerning the monument resource management plan;

The BLM's 2003 project list;

The 2003 fire program; and

The council will consider recommendations from its Upper Missouri Visitor Use subgroup.

All meetings are open to the public. The public may present written comments to the council. Each formal council meeting will also have time allocated for hearing public comments as detailed above. Depending on the number of persons wishing to comment and time available, the time for individual oral comments may be limited.

FOR FURTHER INFORMATION CONTACT: Bruce Reed, Malta Field Manager, 501 S. 2nd St. East, Malta, Montana 406-654-1240.

Dated: December 17, 2002.
David L. Mari,
Lewistown Field Manager.

[FR Doc. 02-32299 Filed 12-23-02; 8:45 am]

BILLING CODE 4310-$$-P